DEPARTMENT OF JUSTICE

Notice of Lodging of Proposed Consent Decree Under the Clean Air Act

On October 4, 2016, the Department of Justice lodged a proposed Consent Decree with the United States District Court for the Northern District of Iowa in the lawsuit entitled United States v. NGL Crude Logistics, LLC and Western Dubuque Biodiesel, LLC, Civil Action No. 2:16-cv-01038-LRR.

The United States filed this lawsuit under the Clean Air Act. The United States' Complaint names NGL Crude Logistics, LLC (f/k/a Gavilon, LLC) and Western Dubuque Biodiesel, LLC as defendants. The United States' Complaint seeks retirement of approximately 36 million Renewable Identification Numbers (RINs) and civil penalties.

The proposed Consent Decree requires Western Dubuque Biodiesel, LLC to pay a $6 million civil penalty to resolve the civil claims alleged in the Complaint against Western Dubuque Biodiesel, LLC through the date of lodging. The proposed Consent Decree does not resolve the United States' claims against NGL Crude Logistics, LLC.

The publication of this notice opens a period for public comment on the consent decree. Comments should be addressed to the Assistant Attorney General, Environment and Natural Resources Division, and should refer to United States v. NGL Crude Logistics, LLC and Western Dubuque Biodiesel, LLC, D.J. Ref. No. 90-5-2-1-11163. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $8.00 (25 cents per page reproduction cost) payable to the United States Treasury.

Robert Brook,
Assistant Section Chief, Environmental Enforcement Section, Environment and Natural Resources Division.

[FR Doc. 2016-24458 Filed 10-7-16; 8:45 am]

BILLING CODE P